DEPARTMENT OF HOUSING AND URBAN DEVELOPMENT

[Docket No. FR-5832-N-06]

60-Day Notice of Proposed Information Collection: Pay for Success Demonstration Application

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 21, 2015.

ADDRESSES: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

FOR FURTHER INFORMATION CONTACT: Marlisa Grogan, Special Needs Assistance Specialist, SNAPS, CPD, Department of Housing and Urban Development, 451 7th Street SW., Washington, DC 20410; email Marlisa Grogan at Marlisa.M.Grogan@hud.gov or telephone 202-402-4350. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Pay for Success Demonstration Application.

OMB Approval Number: 2506-0207.

Type of Request: Extension, without change, of a currently approved collection.

Form Number: SF 424, HUD SF 424 SUPP (if applicable), HUD-2993 (if applicable), HUD-96011 (if applicable), HUD-2880, SF-LLL.

Description of the need for the information and proposed use: The information to be collected will be used to rate applications, to determine eligibility for the PFS Demonstration and to establish grant amounts. Applicants, which must be public or private nonprofit organizations, will respond to narrative prompts to demonstrate their experience and expertise in PFS financing and to describe their intended program design, both for PFS Demonstration activities, such as conducting a feasibility assessment and structuring a PFS transaction, as well as deal implementation activities, such as administering a PSH intervention, tracking outcomes, and making success payments.

Respondents: Public or private nonprofit organizations.

Estimated Number of Respondents: 9 applicants.

Estimated Number of Responses: 9 applicants.

Frequency of Response: 1 response per year.

Average Hours per Response: 22.21 hours.

Total Estimated Burdens: 194.68 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 15, 2015.
Harriet Tregoning,
Principal Deputy Assistant Secretary for Community Planning and Development.

[FR Doc. 2015-17861 Filed 7-20-15; 8:45 am]

BILLING CODE 4210-67-P